DEPARTMENT OF COMMERCE

International Trade Administration

[A-427-801, A-428-801, A-588-804, A-412-801]

Antifriction Bearings (Other Than Tapered Roller Bearings) and Parts Thereof From France, Germany, Japan, and the United Kingdom: Partial and Full Rescissions of Antidumping Duty Administrative Reviews

AGENCY: Import Administration, International Trade Administration, Department of Commerce.

ACTION: Notice of Partial and Full Rescissions of Antidumping Duty Administrative Reviews.

SUMMARY: In response to requests from interested parties, the Department of Commerce published a notice of initiation of administrative reviews of the antidumping duty orders on antifriction bearings (other than tapered roller bearings) and parts thereof from France, Germany, Japan, and the United Kingdom on June 25, 2002. The merchandise covered by these orders are ball bearings and parts thereof from France, Germany, Japan, and the United Kingdom and spherical plain bearings and parts thereof from France. The period of review is May 1, 2001, through April 30, 2002. The Department of Commerce is rescinding these administrative reviews in part or full.

EFFECTIVE DATE: October 23, 2002.

FOR FURTHER INFORMATION CONTACT: Catherine Cartsos or Richard Rimlinger at Import Administration, International Trade Administration, U.S. Department of Commerce, Washington, D.C. 20230; telephone: (202) 482-1757 or (202) 482-4477, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department) regulations are to 19 CFR Part 351 (2001).

Background

On May 15, 1989, the Department published in the Federal Register (54 FR 20909) the antidumping duty orders on ball bearings and parts thereof from France, Germany, Japan, and the United Kingdom and on spherical plain bearings and parts thereof from France. On June 25, 2002, pursuant to 19 CFR 351.213(b), we published a notice of initiation of administrative reviews of these orders (67 FR 42753).

Subsequent to the initiation of these reviews, we received timely withdrawals of the requests we had received for the following reviews: INA-Schaeffler KG (INA) and Sachs Handel GmbH and ZF Sachs (collectively Sachs) with respect to ball bearings from Germany; SKF France S.A. (SKF France) with respect to spherical plain bearings from France; Barden Corporation (U.K.) Ltd. (Barden) with respect to ball bearings from the United Kingdom; Asahi Seiko Co., Ltd. (Asahi), and Nachi-Fujikoshi Corporation (Nachi) with respect to ball bearings from Japan. Because there were no other requests for review of the above-named firms, we are rescinding the reviews with respect to these companies in accordance with 19 CFR 351.213(d). Because there are no other requests for reviews of the orders on ball bearings from the United Kingdom and on spherical plain bearings from France, we are rescinding the reviews of these orders in full.

Rescission of Reviews

In accordance with 19 CFR 351.213(d), the Department will rescind an administrative review “if a party that requested the review withdraws the request within 90 days of the date of publication of notice of initiation of the requested review.” The Department is also authorized to extend this deadline if it decides that it is reasonable to do so. INA, Sachs, SKF France, Barden, and Asahi withdrew their requests for their respective reviews within the 90-day time limit. The Torrington Company (Torrington) withdrew its request for the review of Nachi after the 90-day period had expired. Because there were no other requests to review Nachi and no other interested party objected, the Department has decided to accept Torrington's withdrawal request.

Because the Department received no other requests for the reviews of INA, Sachs, Asahi, and Nachi, it is rescinding the reviews in part with respect to shipments of ball bearings from Germany and Japan by these firms. Also, because the Department received no other requests to review spherical plain bearings from France other than those sold by SKF and no other requests to review ball bearings from the United Kingdom other than those sold by Barden, the Department is rescinding the reviews of these orders completely. The above partial and complete rescissions are pursuant to 19 CFR 351.213(d)(1). The Department will issue appropriate assessment instructions to the U.S. Customs Service within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing these rescissions in accordance with 19 CFR 351.213(d)(4).

Dated: October 16, 2002.
Louis Apple,
Acting Deputy Assistant Secretary for Import Administration.

[FR Doc. 02-27010 Filed 10-22-02; 8:45 am]

BILLING CODE 3510-DS-S